SMALL BUSINESS ADMINISTRATION

[Declaration of Economic Injury Disaster #9W74]

State of Montana

Flathead, Glacier, Lake, Lewis & Clark, Lincoln, Sanders and Teton Counties and the contiguous Counties of Broadwater, Cascade, Chouteau, Jefferson, Meagher, Mineral, Missoula, Pondera, Powell and Toole Counties in the State of Montana; and Bonner, Boundary and Shoshone Counties in the State of Idaho constitute an economic injury disaster loan area as a result of forest fires that began on July 23, 2003 and continue to burn. The forest fires caused the closures of the entrances to Glacier National Park and have caused several businesses to suffer substantial economic losses. Eligible small businesses and small agricultural cooperatives without credit available elsewhere may file applications for economic injury assistance as a result of this disaster until the close of business on May 26, 2004 at the address listed below or other locally announced locations:

Small Business Administration, Disaster Area 3 Office, 14925 Kingsport Road, FT. Worth, TX 76155-2243.

The interest rate for eligible small businesses and small agricultural cooperatives is 2.953 percent.

The number assigned for economic injury for this disaster is 9W7400 for the State of Montana and 9W7500 for the State of Idaho.

(Catalog of Federal Domestic Assistance Program No. 59002)
Dated: August 26, 2003.
Hector V. Barreto,
Administrator.

[FR Doc. 03-22424 Filed 9-2-03; 8:45 am]

BILLING CODE 8025-01-P